SOCIAL SECURITY ADMINISTRATION

Program: Work Incentives Planning and Assistance (WIPA) Program Pre-Application Seminars Program Announcement No. SSA-OESP-06-1

AGENCY: Social Security Administration.

ACTION: Notice of meetings.

DATES: May and June 2006.

Locations: The seminars will be held at locations in the following ten (10) cities: Richmond, Virginia; Sacramento, California; Boise, Idaho; Helena, Montana; Austin, Texas; Mobile, Alabama; Des Moines, Iowa; Lansing, Michigan; Albany, New York; and Hartford, Connecticut.

SUPPLEMENTARY INFORMATION: Type of meeting: Informational pre-application seminars open to potential applicants for the Work Incentives Planning and Assistance (WIPA) Program (currently the Benefits Planning, Assistance and Outreach (BPAO) Program).

Purpose: SSA will hold informational pre-application seminars throughout the nation to solicit interest and encourage community-based organizations to apply for cooperative agreement awards. All interested applicants are invited to attend.

Section 1149(d) of the Social Security Act (as added by Section 121 of the Ticket to Work and Work Incentives Improvement Act (TWWIIA) of 1999, Pub. L. 106-170) required SSA to establish community based benefits planning and assistance in every State, the District of Columbia, Puerto Rico, Guam, the Northern Mariana Islands, American Samoa, and the Virgin Islands. As authorized by TWWIIA, SSA established a program, called the Benefits Planning, Assistance and Outreach (BPAO) program. Under this program, cooperative agreements (monetary awards) were granted to community-based organizations, called BPAO Projects, to provide all of SSA's beneficiaries with disabilities access to work incentives planning and assistance services. Section 407 of the Social Security Protection Act (Pub. L. 108-203) extended the authorization of this program through Fiscal Year 2009.

SSA released a nationwide, competitive Request for Applications in May 2006 to announce funding availability for new cooperative agreements awards and to change the name of the BPAO program to the Work Incentives Planning and Assistance (WIPA) Program, effective September 30, 2006.

The schedule (including date, time and address of each pre-application seminar location as it becomes available) will be posted at the following Internet site: http://www.socialsecurity.gov/work/WIPARFA.html.

Agenda: SSA will use the seminars to provide guidance and technical assistance to interested parties as they prepare to submit their applications. The agenda will be posted on the Internet at http://www.socialsecurity.gov/work one week before commencement of the seminars. The agenda can also be requested electronically or by fax upon request.

FOR FURTHER INFORMATION CONTACT: Anyone requiring additional information should contact SSA Project Officer, Debbie Morrison by e-mailing debbie.morrison@ssa.gov or calling (410) 965-9054. Interested parties requiring reasonable accommodations should also contact Debbie Morrison no later than ten (10) business days before the date of the seminar to be attended.

• Mail addressed to Social Security Administration, 6401 Security Blvd., Room 107 Altmeyer Building, Baltimore, MD 21235.

• Fax at (410) 966-1278.

• E-mail to debbie.morrison@ssa.gov.

Dated: May 8, 2006.
Martin H. Gerry,
Deputy Commissioner for Disability and Income Security Program.

[FR Doc. E6-7320 Filed 5-15-06; 8:45 am]

BILLING CODE 4191-02-P